DEPARTMENT OF DEFENSE

Department of the Army

[Docket ID USA-2014-0040]

Submission for OMB Review; Comment Request

ACTION: Notice.

SUMMARY: The Department of Defense has submitted to OMB for clearance, the following proposal for collection of information under the provisions of the Paperwork Reduction Act.

DATES: Consideration will be given to all comments received by January 29, 2015.

FOR FURTHER INFORMATION CONTACT: Fred Licari, 571-372-0493.

SUPPLEMENTARY INFORMATION: Title, Associated Form and OMB Number: The Contractor Manpower Reporting System; OMB Control Number 0702-0120.

Type of Request: Extension.

Number of Respondents: 12,215.

Responses per Respondent: 1.

Annual Responses: 12,215.

Average Burden per Response: 5 minutes.

Annual Burden Hours: 1018.

Needs and Uses: This program greatly enhances the ability of the Army to identify and track its contractor workforce. Current systems do not have contractor manpower data that is collected by the contractor Manpower Reporting System—i.e., Direct Labor Hours, Direct Labor Dollars, and Organization supported. Existing financial and procurement systems have obligation amounts of an unknown mix of services and supplies, and the Department of the Army is not able to trace the funding to the organization supported. Like all other Federal Government agencies, the Army's reliance on service contractor employees has increased significantly over the past few years.

Affected Public: Business or other for-profit.

Frequency: Annually.

Respondent's Obligation: Required to Obtain or Maintain Benefits.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: December 22, 2014.
Aaron Siegel,
Alternate OSD Federal Register Liaison Officer, Department of Defense.

[FR Doc. 2014-30356 Filed 12-29-14; 8:45 am]

BILLING CODE 5001-06-P